DEPARTMENT OF AGRICULTURE

Office of Partnerships and Public Engagement

Advisory Committee on Beginning Farmers and Ranchers; Solicitation of Membership Nominations

AGENCY: Office of Partnerships and Public Engagement, USDA.

ACTION: Notice.

SUMMARY: The United States Department of Agriculture's (USDA) Office of Partnerships and Public Engagement (OPPE) is seeking nominations for individuals to serve on the Advisory Committee on Beginning Farmers and Ranchers (“Advisory Committee”).

DATES: All nominations received by October 10, 2023 will be considered.

ADDRESSES: Nominations may be submitted electronically to the Advisory Committee's dedicated email inbox at acbfr@usda.gov. Nominations may also be sent via first-class mail to: Advisory Committee on Beginning Farmers and Ranchers, Office of Partnerships and Public Engagement, 1400 Independence Avenue SW, Mail Stop 0601, Room 524-A, Washington, DC 20250. All nominations received prior to the deadline under DATES (above) will be considered.

FOR FURTHER INFORMATION CONTACT: Ms. R. Jeanese Cabrera, Designated Federal Officer, Office of Partnerships and Public Engagement, 1400 Independence Avenue SW, Mail Stop 0601, Room 524-A, Washington, DC 20250; Phone: (202) 720-6350; Email: acbfr@usda.gov.

SUPPLEMENTARY INFORMATION: The full Advisory Committee shall consist of a minimum 14 members up to a maximum of 20 members. Each member shall be appointed to serve a 2-year term and may reapply to be considered up to two additional 2-year terms. All members serve at the pleasure of the Secretary of Agriculture. The Advisory Committee will meet at least once annually to explore issues affecting beginning farmers and ranchers, USDA policies and programs, and related matters challenging new farmers and ranchers. Advisory Committee meetings may be held in hybrid style giving participants the choice to attend in person or virtually. During public meetings, the Advisory Committee shall explore and deliberate upon specific topics and frame up recommendations involving: (1) principles to leverage and maximize existing programs that assist beginning farmers and ranchers; (2) methods and strategies that amplify and improve State collaboration and participation in USDA programs; (3) opportunity creation strategies and pilot programs (e.g., farm apprenticeships, farm incubators); and (4) ideas that provide relief from labor and taxation burdens.

Member Nominations. Any interested person may nominate individuals for membership. Interested candidates may also nominate themselves. Individuals who wish to be considered for membership on the Advisory Committee must submit a nomination package that includes (1) the background disclosure form (Form AD-755) [https://www.usda.gov/sites/default/files/documents/ad-755.pdf]; (2) a brief cover letter with a summary of nominee's qualifications to serve on the Advisory Committee; and (3) a resume providing the nominee's background, experience, and educational qualifications (5 pages or less). Nominees may also provide samples of published writings related to matters affecting new farmers and ranchers and letters of endorsement—both of which are optional. Nomination for membership is open to the public, including minorities, women, and persons with disabilities from within the United States and its territories (Puerto Rico and the U.S. Virgin Islands, Guam, American Samoa, and the Commonwealth of the Northern Marianna Islands). Final selection of Advisory Committee members is made by the Secretary.

The Advisory Committee was originally authorized pursuant to Section 5(b) of the Agricultural Credit Improvement Act of 1992, 7 U.S.C. 1929, as amended; and reauthorized under the Food, Conservation, and Energy Act of 2008; and is established and managed in accordance with the provisions of the Federal Advisory Committee Act (FACA), as amended, 5 U.S.C. 10.

The Advisory Committee is statutory, and its members may be designated as Representatives, Special Government Employees (SGEs), or Regular Government Employees (RGEs). Pursuant to the Advisory Committee's statutory composition, members should represent (1) new farmers and ranchers; (2) State beginning farming programs; (3) commercial lenders; (4) private nonprofit organizations with active beginning farmer or rancher programs; (5) educational institutions with demonstrated experience in training beginning farmers and ranchers; and (6) other organizations or persons who provide lending or technical assistance for farmers and ranchers. RGEs shall include employees from the Farm Service Agency and the National Institute of Food and Agriculture. SGEs shall be appointed for their personal knowledge, academic scholarship, background, and expertise in specific areas of focus as required during their terms.

Equal opportunity practices in accordance with USDA's policies will be followed in all appointments to the Committee. To ensure that the recommendations of the Committee have taken in account the needs of the diverse groups served by USDA, membership shall include, to the extent possible, individuals with demonstrated ability to represent minorities, women, and persons with disabilities.

Dated: September 1, 2023.
Cikena Reid,
USDA Committee Management Officer.

[FR Doc. 2023-19423 Filed 9-7-23; 8:45 am]

BILLING CODE 3412-88-P